DEPARTMENT OF COMMERCE

International Trade Administration

Agency Information Collection Activities; Submission to the Office of Management and Budget (OMB) for Review and Approval; Comment Request; SABIT Participant Application, Participant Surveys, Alumni Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 16, 2024 during a 60-day comment period. This notice allows for an additional 30 days for public comments.

Agency: International Trade Administration, Commerce.

Title: SABIT Participant Application, Participant Surveys, Alumni Survey.

OMB Control Number: 0625-0225.

Form Number(s): ITA-4143P-3.

Type of Review: Regular submission (revision of a currently approved information collection).

Number of Respondents: 3,050.

Average Hours per Response: Participant application, 3 hours; participant pre-program survey, 6 minutes; participant post-program survey, 6 minutes; alumni survey, 1 hour.

Burden Hours: 6,655.

Needs and Uses: The SABIT Program of the Department of Commerce's International Trade Administration (ITA), is a key element in the U.S. Government's efforts to support the economic transition of Eurasia (the former Soviet Union) and to support economic growth in other regions of the world, including countries in Europe, South Asia, and the Middle East, et al. SABIT develops and implements two-week training programs in the United States for groups of up to 20 business and government professionals from Eurasia and other regions. These professionals meet with U.S. government agencies, non-governmental organizations and private sector companies in order to learn about various business practices and principles. This unique private sector-U.S. Government partnership was created in order to tap into the U.S. private sector's expertise and to assist developing regions in their transition to market-based economies while simultaneously boosting trade between the United States and other countries. SABIT also develops and implements virtual events for its alumni and other participants that provide industry-specific training on best practices for business and management and fosters contacts with U.S. organizations.

Affected Public: Individuals or households; Business or other for-profit organizations.

Frequency: Each form is filled out once per respondent.

Estimated Total Annual Cost to Public: $120,318.

Respondent's Obligation: Voluntary.

Legal Authority: Section 632(a) of the Foreign Assistance Act of 1961, as amended (the “FAA”), and pursuant to the Department of State, Foreign Operations, and Related Programs Appropriations Act, 2018 (Div. K, Pub. L. 115-141); Foreign Aid and Transparency and Accountability Act of 2016.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0625-0225.

Sheleen Dumas,
Department PRA Clearance Officer, Office of the Under Secretary for Economic Affairs, Commerce Department.

[FR Doc. 2024-13920 Filed 6-24-24; 8:45 am]

BILLING CODE 3510-HE-P